DEPARTMENT OF STATE

[Public Notice: 7305]

Bureau of Educational and Cultural Affairs Request for Proposals: The Design, Development, Installation, Operation, and Final Disposition of a U.S. Pavilion at the International Exposition Yeosu Korea 2012

Announcement Type: New.

Key Dates

Application Deadline: Tuesday, March 15, 2011.

Executive Summary

The Bureau of Educational and Cultural Affairs (ECA) of the Department of State (Department) requests proposals from private U.S. individuals, firms, associations and organizations (for-profit or non-profit) for the design, development, installation, operation (including managing sponsorship donations and sponsorship fulfillment), and final disposition of a U.S. Pavilion at the International Exposition Yeosu Korea 2012, whose theme is “The Living Ocean and Coast.” The U.S. Pavilion will be situated in an approximately 1,183-square-meter module within the International Pavilions building. The Department intends to sign a Memorandum of Agreement (MOA) with the proposer submitting the proposal most advantageous to the U.S. Government, authorizing that project manager to proceed with the design, development, installation, and operation of the U.S. Pavilion, and the Department would subsequently sign a Participation Contract with the Korea Expo Organizing Committee.

The Department is not authorized to provide funding for the U.S. Pavilion at Expo 2012 Yeosu Korea. The Department is authorized, however, to raise funds for the U.S. Pavilion at Expo 2012 Yeosu Korea from the private sector and will secure pledges from prospective donors (Sponsors) that have been vetted within the Department for potential conflict of interest. The Department is seeking proposals, with detailed budget estimates based on $10 (ten) million in sponsorship, and a second alternate proposal showing the project scaled back to $7 (seven) million. Sponsors have agreed to follow through on pledges by donating pledged amounts to the successful proposer, who will manage sponsorship engagement (including sponsorship donations and sponsorship fulfillment).

The successful proposer will need to have secured IRS recognition as a tax exempt organization, as well as an IRS declaration that contributions are deductible—and to have provided documentation to this effect to the Department—before the Department will sign an MOA.

Total cost for a U.S. presence at Expo 2012 Yeosu Korea is estimated to be $10 million. This will include all costs associated with the design, fabrication, installation, operation (including staffing), and final disposition of the U.S. Pavilion, as well as all support for a U.S. Commissioner General. The successful proposer will consult closely with and follow the direction of State Department officials and the Commissioner General with respect to Pavilion content and programming. The successful proposer should also consult with a design proposal review team that includes non-USG Pavilion experts plus non-USG Korea experts, such as the Korea-America Foundation or U.S. academics in Korea studies. The U.S. Pavilion shall be considered on loan to the U.S. Government for the duration of the Expo (May 12-August 12, 2012). The loan shall be treated as a gift to the U.S. Government.

Proposals from non-U.S. citizens or non-U.S.-owned firms or organizations shall be deemed ineligible for consideration.

I. Funding Opportunity Description

Authority

Overall authority for Department support for U.S. participation in international expositions is contained in Section 102(a)(3) of the Mutual Educational and Cultural Exchange Act of 1961, as amended (22 U.S.C. 2452(a)(3)), also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” Pursuant to this authority, and internal delegations of authority, ECA is the Department bureau responsible for coordinating U.S. participation in Expo 2012 Yeosu Korea. Consequently, ECA will take the lead, with the assistance of U.S. Mission to Korea, to represent the U.S. Government in dealings with the Organizing Committee of Expo 2012 Yeosu Korea.

Purpose

The Government of the Republic of Korea has invited the United States to participate in the International Exposition Yeosu Korea 2012 and the U.S. Government has advised the Korean Government of its intention to participate with an official U.S. Pavilion, subject to our ability to raise sufficient private sector funds. Expo 2012 Yeosu Korea will be held on specially constructed exhibition grounds. The Expo opens on May 12, 2012 and closes on August 12, 2012.

Expo 2012 Yeosu Korea is a small-scale international exposition or “world's fair” recognized by the International Expositions Bureau (BIE), an international treaty organization established to sanction and monitor international exhibitions of long duration (over three weeks) and significant scale. Invitations to world's fairs are extended from the host government to other governments. The United States is not a member of the BIE, and the U.S. Commissioner General—selected by the Department of State—will therefore not be a formal member of the Steering Committee of the College of Commissioners General for Expo 2012 Yeosu Korea.

With a projected eight million visitors, Expo 2012 Yeosu Korea offers an excellent opportunity to educate and inform foreign audiences about the United States and its scientific and technological innovations relating to the theme of the Yeosu Expo—oceans and coasts—as well as to promote broad U.S. commercial interests around the world. U.S. participation in Expo 2012 Yeosu Korea will confirm the strength and importance of U.S.-Korean bilateral ties and promote mutual understanding between the people of Korea and the United States.

The Organizing Committee for Expo 2012 Yeosu explains the overall theme of the Expo “The Living Ocean and Coast.” as follows: “Diversity of Resources and Sustainable Activities defines the guiding principle that should inform all future actions regarding our oceans. Only with sustainable use, in other words finding the balance between production and consumption, while preserving diversity of resources, species and culture, can the oceans and coasts continue to live.”

The theme for the U.S. Pavilion should be directly linked to the overall theme of the Expo. ECA welcomes proposals for a Pavilion to showcase American expertise and innovation in some or all of the following areas: preservation of marine ecosystems; protection of the marine environment and marine biodiversity; bio- and nanotechnology; impacts of climate change on the oceans, including ocean acidification; education in sound environmental practices in the marine environment; new resources technology in energy, marine mineral resource management, sustainable aquaculture and fisheries; and the cultural, artistic and scientific interaction between the sea and people. Other Pavilion themes related to the overall Expo theme may also be proposed. The design concept for the U.S. Pavilion should appeal to a general, non-expert audience; proposals should therefore include entertaining elements for all ages as well as academic/expository aspects.

U.S. Direction

The U.S. Pavilion at Expo 2012 Yeosu Korea will be an official representation of the Government of the United States of America; the Department of State must therefore ensure that the U.S. Pavilion is nonpolitical in nature, of the highest possible quality, and balanced and representative of the diversity of American political, social and cultural life. The Pavilion must maintain the highest level of scholarly integrity and meet the highest standards of artistic achievement and academic excellence. It should also be entertaining and interactive. The project manager, working for the selected proposer, must submit both early concept plans and final detailed ex plans, blue prints, schematics graphics, and audio-visual productions for review and prior approval by ECA. Any work undertaken by the project manager without prior ECA approval will be done at the sole risk of the proposer and may require remedial work at the proposer's sole expense. The project manager is strongly encouraged to seek outside experts to review potential Pavilion content and to review early concepts with local audiences to make sure that the proposed elements will resonate with the target Korean audience.

The U.S. Pavilion will be used to promote U.S. commercial interests as well as to highlight outstanding U.S. scientific and technological achievements. The proposed design for the U.S. Pavilion should include functional space for three purposes: An exhibit area, an administrative area, and hospitality facilities. The Pavilion layout should also include provisions for sponsorship recognition. Firms or companies subcontracted for design and other content creation must be U.S.-owned.

Further information on Expo 2012 Yeosu Korea can be found at the official Expo Web site: http://www.expo2012.or.kr/eng/ain.asp.

Funding Limitations

Section 204 of Public Law 106-113 (22 U.S.C. 2452b) limits the support the Department may provide for U.S. participation in international expositions such as Expo 2012 Yeosu Korea. This Request for Proposals is intended to help identify a private U.S. individual, firm, association or organization interested in and capable of providing a complete Pavilion at Expo 2012 Yeosu Korea as a gift to the United States Government. Under section 204, the Department is not authorized to provide funding for the U.S. Pavilion at Expo 2012 Yeosu Korea. The Department is authorized, however, to raise funds for the U.S. Pavilion at Expo 2012 Yeosu Korea from the private sector. All such donations will be collected by the successful proposer once a Memorandum of Agreement has been signed.

Costs

The U.S. Pavilion will be situated in an approximate 1,183-square-meter module provided at no-cost by the Expo Organizing Committee. A mezzanine floor may be installed within the 7.2-meter height of the module. It is estimated that a representative U.S. presence in that space will cost $10 (ten) million. Costs would include, but not be limited to:

• Design and construction of the Pavilion space; incorporation of appropriate internal and external crowd control features;

• Design of the Pavilion; development of the story line;

• Managing sponsorship engagement by defining Sponsor packages based on pledge factors, accepting sponsor pledges solicited by the Department, and managing sponsorship fulfillment;

• Production of exhibits, audio-visual materials, films, DVDs, videos, posters, and other promotional materials needed for the exhibit;

• Managing all administrative, personnel, operations, and Pavilion costs, including salaries, benefits, staff housing expenses, contracting and supplier costs, and consulting fees, as well as funding associated with student guides, escorts, and representational gifts;

• Protocol team for the creation and staffing of hospitality facilities devoted to hosting all dignitaries visiting the U.S. Pavilion;

• Promotion and advertisement of the U.S. Pavilion;

• Media engagement and planning of communication strategy of the U.S. Pavilion, including the development of a Web site;

• Transport, travel, insurance, postage and shipping fees;

• Security, namely, development and implementation of a security program for the U.S. Pavilion in consultation with the Department of State and appropriate Korean authorities;

• Cultural and informational programs associated with the Pavilion, including, but not limited to, production of U.S. National Day activities as well as other cultural programs;

• Funding for all expenses associated with the U.S. Commissioner General; and

• Tear-down, including removal of exhibits and return of the module space in the condition required by the Expo Organizing Committee. Final disposition plan must be approved by ECA.

Design/Fabrication

The successful proposer will need to design and fabricate the Pavilion, administrative area, and hospitality facilities of the U.S. Pavilion. The space provided by the Yeosu Organizing Committee is approximately 1,183 square meters in size. A floor plan showing the space provided by the organizers can be sent to proposers by the Department upon request. The Pavilion should follow the theme of “The Living Ocean and Coast” and should be highly interactive and engaging. Proposals should show how the proposer would intend to portray this storyline. A written description should be augmented by artist renderings. Proposals will be reviewed and evaluated by Department officials.

Operations

The successful proposer will be responsible for full operation of the U.S. Pavilion. This would include, but not be limited to, such areas as protocol, public affairs, sponsorship fulfillment, cultural programming, student guide services, communications, operations, security, cleaning, and maintenance. Office space must be adequate for the proposed number of staff. A proposed staffing plan should be provided in the response to this RFP.

Student Guides

Proposals must include a plan for managing student guides at the U.S. Pavilion. All student guides must be U.S. citizens, from a diverse set of backgrounds and U.S. States, and fluent in Korean with two or more years of college-level language training or equivalent ability gained through family or residence in Korea. It would be advantageous if the student guide (also called Student Ambassador) program were run in conjunction with a U.S.-based college or university.

Expo Guidelines

Interested parties may obtain copies of the General Regulations and Participation Guide from the Expo 2012 Yeosu Korea offices in Korea at:

The Organizing Committee for Expo 2012 Yeosu Korea, 75 Yulgok-no Jongno-Gu Seoul 110-793, Korea. Tel: +82-1577-2012/+82-2-740-4500. http://www.expo2012.or.kr/eng//main.asp.

II. Award Information

Type of Award: MOA. The Department's level of involvement in this program is listed under number I above.

Approximate Number of Awards: 1.

III. Eligibility Information

III.1. Eligible Applicants

Applications may be submitted by individuals, firms, associations, and public and private organizations (non-profit or for-profit). Non-profit organizations must meet the provisions described in Internal Revenue Code section 26 U.S.C. 501(c)(3). For-profit organizations must be prepared to establish a non-profit entity, which also meets these provisions, to manage the project if it is the successful proposer. The successful proposer will need to have secured IRS recognition as a tax exempt organization, as well as an IRS declaration that contributions are deductible—and to have provided documentation to this effect to the Department—before the Department will sign an MOA.

IV. Application and Submission Information

IV.1 Contact Information To Request an Application Package

Please contact the Office of Citizen Exchanges, ECA/PE/C, U.S. Department of State, SA-5, 2200 C Street, NW., Washington, DC 20522; fax: 202-632-9355; or e-mail Yeosu2012@state.gov for assistance. Please refer to Citizen Exchanges Yeosu Expo when making your request.

IV.2 Proposals

Proposals should be provided in a narrative of no more than twenty (20) pages 8½″ x 11″ in size, no smaller than 12-point font, single-spaced, plus a detailed budget, with necessary attachments and/or exhibits. The narrative and additional documents should outline in as much detail as possible the plans for providing a U.S. Pavilion at Expo 2012 Yeosu Korea. Proposals should address the following:

• Willingness to adhere to the General Regulations of Expo 2012 Yeosu Korea as stipulated by the Expo Organizing Committee, including restrictions and limitations related to construction;

• Track record of working with Pavilions and on the proposed theme;

• Experienced staff with language facility;

• Clear concept for the exhibit plan and storyline, including designs;

• Detailed budget showing breakdown of budget items required for each aspect of the project development and implementation;

• Detailed organizational chart indicating all necessary positions and start dates, including but not limited to operations, communications, protocol, Sponsor fulfillment, and student guides;

• Timeline detailing each step in the design, construction, and breakdown of the U.S. Pavilion as well as the development of the U.S. Pavilion content; and

• Agreement to consult closely with and follow the direction of State Department officials and the Commissioner General.

Proposals should state clearly that all materials developed specifically for the project will be subject to prior review and approval by ECA. In addition, proposals should state that all contracts or sub-contracts contemplated to be awarded by the proposer to further the purposes of the U.S. Pavilion which are in excess of $50,000 will be reviewed and approved by ECA prior to their award.

IV.3 Application Deadline and Methods of Submission

Application Deadline Date: Tuesday, March 15, 2011.

Reference: Citizen Exchanges Yeosu Expo.

Submitting Applications

Due to heightened security measures, proposal submissions must be sent via a nationally recognized overnight delivery service (i.e., DHL, Federal Express, UPS, Airborne Express, or U.S. Postal Service Express Overnight Mail, etc.) and be shipped no later than the above deadline. The delivery services used by applicants must have in-place, centralized shipping identification and tracking systems that may be accessed via the Internet and delivery people who are identifiable by commonly recognized uniforms and delivery vehicles. Proposals shipped on or before the above deadline but received at ECA more than seven calendar days after the deadline will be ineligible for further consideration under this competition. Proposals shipped after the established deadlines are ineligible for consideration under this competition. It is each applicant's responsibility to ensure that each package is marked with a legible tracking number and to monitor/confirm delivery to ECA via the Internet. ECA will not notify you upon receipt of application. Delivery of proposal packages may not be made via local courier service or in person for this competition. Faxed documents will not be accepted at any time. Only proposals submitted as stated above will be considered. Applications may not be submitted electronically.

The original and ten copies of the application should be sent to:

U.S. Department of State, SA-5, Bureau of Educational and Cultural Affairs, Ref.: Citizen Exchanges Yeosu Expo, ECA/PE/C, 2200 C Street, NW., Washington, DC 20522.

Applicants must also submit the “Executive Summary” and “Proposal Narrative” sections of the proposal in text (.txt) format on a PC-formatted CD-ROM.

V. Application Review Information

V.1 Review Process

ECA will review all proposals for technical eligibility. Proposals will be deemed ineligible if they are not submitted by a U.S. citizen, U.S.-owned corporation or U.S.-based organization, and do not fully adhere to the General Regulations of Expo 2012 Yeosu Korea and the guidelines stated herein. Eligible proposals will be subject to compliance with Federal and Bureau regulations and guidelines.

The ECA program office will review all eligible proposals, as will relevant elements of the U.S. Mission in the Republic of Korea and a panel of senior U.S. Government employees. Proposals may also be reviewed by the Office of the Legal Adviser or by other Department elements, including but not limited to the State Department Bureaus of East Asian and Pacific Affairs and Oceans and International Environmental and Scientific Affairs, as well as U.S. diplomatic officers in Korea, and private sector experts. The final decision on which proposal is most advantageous to the U.S. Government will be at the sole discretion of the Department's Assistant Secretary for Educational and Cultural Affairs.

V.2 Review Criteria

Technically eligible proposals will be reviewed according to the criteria stated below. These criteria are not rank-ordered and all carry equal weight in the evaluation.

1. Program planning to achieve Pavilion objectives: Proposals should clearly demonstrate how the planned Pavilion will: Educate and inform foreign audiences about the United States and its scientific and technological innovations relating to the oceans and coasts; promote broad U.S. commercial interests around the world, and specifically address the theme and General Regulations of the Expo. The proposal should also include a clearly articulated media engagement plan and communications strategy for the Pavilion. Pavilion objectives should be reasonable, feasible, and flexible. The proposal should contain a detailed timeline and budget that demonstrate substantive undertakings and logistical capacity.

2. Institutional Capacity/Record/Ability: Proposals should describe personnel and institutional resources, which should be adequate and appropriate to achieve the Pavilion's goals. Proposals should demonstrate an institutional record of successful Pavilion activities, including responsible fiscal management and governance practices, and full compliance with all applicable BIE Expo requirements.

3. Multiplier effect/impact: Proposals should clearly state how Pavilion content and related activities will strengthen long-term mutual understanding between the United States and Korea.

4. Support of Diversity: Proposals should demonstrate involvement of participants from traditionally underrepresented groups including, but not limited to, women, racial and ethnic minorities, and people with disabilities.

5. Monitoring and Project Evaluation Plan: Proposals should include a plan to measure the impact of the proposed U.S. Pavilion, cultural programs, and information programs.

6. Sponsorship Management: Proposals should include a plan to manage sponsor engagement and sponsorship fulfillment.

7. Cost-effectiveness: Proposals should include a proposed action plan and timeline for all aspects of the project with associated, detailed budget estimates based on a $10 (ten) million budget, as well as a second alternate plan showing the ability for the project to be scaled back to $7 (seven) million.

VI. Award Administration Information

Award Notices

The successful proposer will sign an MOA with the Department. Unsuccessful proposers will receive notification of the results of the application review from the ECA program office coordinating this competition.

Reporting Requirements

The project manager must provide ECA with a hard copy original plus two copies of the following reports:

1. Program and financial reports every 90 (ninety) calendar days after the signature of the MOA.

2. Program and financial reports no more than 90 (ninety) calendar days after the expiration of the award.

VII. Agency Contacts

For questions about this announcement, contact: The Office of Citizen Exchanges, ECA/PE/C, Yeosu Expo, Bureau of Educational and Cultural Affairs, U.S. Department of State, SA-5, 2200 C Street, NW., Washington, DC 20522; Fax: 202-632-9355; E-mail: Yeosu2012@state.gov.

Correspondence with ECA concerning this Request for Proposals (RFP) should reference Citizen Exchanges Yeosu Expo.

Please read the complete announcement before sending inquiries or submitting proposals. Once the RFP deadline for submission of proposals has passed, ECA staff may not discuss this competition with applicants until the proposal review process has been completed.

VIII. Other Information

Notice

The terms and conditions published in this Request for Proposals are binding and may not be modified orally by any ECA representative. Amendments to this RFP, if any, will be issued in writing. Explanatory information provided by ECA that contradicts published language will not be binding. Issuance of this RFP does not constitute an intention to agree to work with any private sector project manager at Expo 2012 Yeosu Korea. ECA reserves the right to select the successful proposer for Expo 2012 Yeosu Korea and to approve all elements of the Pavilion and project. All decisions made based on indications of interest submitted in response to this RFP will be made solely by ECA and are final.

Dated: January 14, 2011.
Ann Stock,
Assistant Secretary for Educational and Cultural Affairs, Department of State.

[FR Doc. 2011-1185 Filed 1-19-11; 8:45 am]

BILLING CODE 4710-05-P